DEPARTMENT OF AGRICULTURE

Submission for OMB Review; Comment Request

August 2, 2000.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques of other forms of information technology should be addressed to:

Desk Officer for Agriculture, Office of Information and Regulatory Affairs, Office of Management and Budget (OMB), Washington, DC 20503; and to

Departmental Clearance Office, USDA, OCIO, Mail Stop 7602, Washington, DC 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Business Service

Title: Intermediary Relending Program.

OMB Control Number: 0570-0021.

Summary of Collection: The objective of the Intermediary Relending Program (IRP) is to improve community facilities and employment opportunities and increase economic activity in rural areas by financing business facilities and community development. This purpose is achieved through loans made by the Rural Business-Cooperative Service (RBS) to intermediaries that establish programs for the purpose of providing loans to ultimate recipients for business facilities and community development. The regulations contain various requirements for information from the intermediaries and some requirements may cause the intermediary to seek information from ultimate recipients. RBS will collect information using several forms.

Need and Use of the Information: The information requested is necessary for RBS to be able to process applications in a responsible manner, make prudent credit and program decisions, and effectively monitor the intermediaries' activities to protect the Government's financial interest and ensure that funds obtained from the Government are used appropriately. It includes information to identify the intermediary, describe the intermediary's experience and expertise, describe how the intermediary will operate its revolving loan fund, provide for debt instruments, loan agreements, and security, and other material necessary for prudent credit decisions and reasonable program monitoring.

Description of Respondents: Not-for-profit institutions; individuals of households; business or other for-profit.

Number of Respondents: 16.

Frequency of Responses: Reporting: On occasion.

Total Burden Hours: 16,930.

Forest Service

Title: Youth Conservation Corps Application & Medical History Forms.

OMB Control Number: 0596-0084.

Summary of Collection: Under P.L. 93-408, the Youth Conservation Corps Act (YCC), the Forest Service provides seasonal employment for eligible youth 15 to 18 years old. As part of this effort, the Forest Service collects information from applicants to evaluate their eligibility for employment with the agency through the program. Each eligible youth, who wishes to apply and be considered for employment in the YCC program, must submit an application form (SF 1800-18).

This is a seasonal program requiring a new submission by applicants each year. Selected participants must complete the medical history form (FS 1800-3), and their parent or guardian must sign. This is necessary to certify the youth's physical fitness to serve in the YCC program.

Need and Use of the Information: All candidates interested in participating in the YCC program must complete an application. Those applicants, selected at random, complete the form FS 1800-3, Youth Conservation Corps Medical History, which provides information needed to certify suitability, any special medical or medication needs, and a file record to protect both the Federal Government and individuals. If not used, the governments liability risk is high, special needs of one individual may not be known, or the screening of an applicant's physical suitability would be greatly inhibited.

Description of Respondents: Individuals or households.

Number of Respondents: 18,000.

Frequency of Responses: Reporting: On occasion.

Total Burden Hours: 6,000.

Cooperative State Research, Education, and Extension Service

Title: Assurance of Compliance With the Department of Agriculture Regulations Assuring Civil Rights Compliance Organization Information.

OMB Control Number: 0524-0026.

Summary of Collection: The Cooperative State Research, Education, and Extension Service (CSREES) has primary responsibility for providing linkages between the Federal and State components of a broad-based, national agricultural research, extension, and higher education system. Focused on national issues, its purpose is to represent the Secretary of Agriculture and the intent of Congress by administering formula and grant appropriated for agricultural research, extension, and higher education.

Before awards can be made, certain information is required from applicant to assure compliance with the civil rights laws and to effectively assess the potential recipient's capacity to manage Federal funds. CSREES will collect information using forms 665 and 666.

Need and Use of the Information: CSREES will collect information to determine that applicants recommended for awards are responsible recipients of Federal funds. Also, CSREES will collect information to determine that applicant agrees that they will offer programs to all eligible persons without regard to race, color, national origin, sex, disability, age, political belief, religion, marital status, or familial status. If the information were not collected, it would not be possible to determine that the prospective grantees are responsible and are complying with the Civil Rights Act.

Description of Respondents: Not-for-profit institutions; business or other for-profit; individuals or households; State, local, or Tribal Government.

Number of Respondents: 150.

Frequency or Responses: Reporting: On occasion.

Total Burden Hours: 600.

Farm Service Agency

Title: Farmer Program Account Servicing Policies—7 CFR Part 1951-S.

OMB Control Number: 0560-0161.

Summary of Collection: The Farm Service Agency's (FSA) Farm Loan Program (FLP) provides supervised credit in the form of loans to family farmers and ranchers to purchase land and finance agricultural production. The regulations covering this information collection package describe the policies and procedures the agency will use to service most FLP loans when they become delinquent. These loans include Operating, Farm Ownership, Soil and Water, Softwood Timber Production, Emergency; Economic Emergency, Economic Opportunity, Recreation, and Rural Housing loans for farm service buildings.

Servicing of accounts is administered in accordance with the provisions of the Consolidated Farm and Rural Development Act (CONACT) as amended by the Food Security Act of 1985, the Agriculture Credit Act of 1987, the Food Agriculture Conservation and Trade Act of 1990, the Agricultural Credit Improvement Act of 1992, and the Federal Agriculture Improvement and Reform Act of 1996. The Agricultural Credit Act of 1987 was intended to ensure that private individuals who have obtained a loan from the U.S. Treasury through the Department of Agriculture are all treated equally when they default on that loan. FSA is modifying the information collection to require borrowers to document the value of added improvements to real estate used in securing a shared appreciation agreement.

Need and Use of the Information: FSA will use the tax returns provided by borrowers to document the validity of the amount of capital improvements being claimed by the borrower. If information is not collected, borrowers may not have the remaining contributory value of capital improvements made during the term of the Shared Appreciation Agreement deducted when the recapture amount under the agreement is calculated.

Description of Respondents: Farms; individuals or households; business or other for-profit.

Number of Respondents: 16,116.

Frequency of Responses: Reporting: On occasion.

Total Burden Hours: 16,243.

Agency is requesting an emergency approval by 8/11/00.

National Agricultural Statistics Service

Title: List Sampling Frame Survey.

OMB Control Number: 0535-0140.

Summary of Collection: The primary objective of the National Agricultural Statistics Service (NASS) is to provide data users with timely and reliable agricultural production and economic statistics, as well as environmental and specialty agricultural related statistics. To accomplish this objective, NASS relies heavily on the use of sample surveys statistically drawn from the “List Sampling Frame.” The List Sampling Frame is a database of names and addresses, with control data, that contains the components from which these samples can be drawn.

Need and Use of the Information: The List Sampling Frame is used to maintain as complete a list as possible of farm operations. The goal is to produce for each state a relatively complete, current, and unduplicated list of names to sample for agricultural operations surveys. Government agencies and educational institutions use information from these surveys in planning, conducting farm policy analyses, and for program administration.

Description of Respondents: Farms; business or other for-profit.

Number of Respondents: 350,000.

Frequency of Responses: Reporting: On occasion.

Total Burden Hours: 22,500.

Agricultural Research Service

Title: Peer Review Related Forms for the Office of Scientific Quality Review.

OMB Control Number: 0518-NEW.

Summary of Collection: The Office of Scientific Quality Review (OSQR) is an organizational unit of the Agricultural Research Service (ARS) reporting to the Associate Administrator. The office has primary responsibility for planning and facilitating high quality scientific and technical peer review of all agency prospective research project plans. The Research Title of the 1998 Farm Bill, P.L. 105-185 Section 103(d), set forth new requirements for peer reviews of ARS research projects. ARS must obtain panel peer reviews of each research project at least once every five years. ARS will collect information using several forms.

Need and Use of the Information: ARS will collect the following information while conducting peer reviews of each research project: confidentiality agreement, panelist's profile information, panelist's peer review of an ARS Research project, panelist's expense report, and panelist's invoice. The information will be used to manage the travel and stipend payments to panel reviewers and provide well organized feedback to ARS' researchers about their projects. If information were not collected there would be no record of expert opinion about ARS' project plans.

Description of Respondents: Not-for-profit institutions; business or other for-profit; individuals or households; farms; Federal Government; State, local or Tribal Government.

Number of Respondents: 350.

Frequency of Responses: Reporting: Quarterly; weekly; annually.

Total Burden Hours: 4,601.

Foreign Agricultural Service

Title: CCC's Export Enhancement Program (DDP) and CCC's Daily Export Incentive Program (DEIP).

OMB Control Number: 0551-0028.

Summary of Collection: The Foreign Agricultural Service (FAS) collects information from U.S. exporters in order to determine the exporters' eligibility for the Export Enhancement Program (EEP) and the Dairy Export Incentive Program (DEIP). Program applicants can fax information in or applicants may register over the Internet.

Need and Use of the Information: Information collected from U.S. Exporters enables FAS to determine whether an exporter has the experience necessary to perform under the proposed agreements. Other information is collected to determine compliance during the period of the agreement and to ensure that compensation in the appropriate amount is made. Without the application and related information, FAS would be unable to properly qualify U.S. Exporters for EEP and DEIP.

Description of Responsents: Business or other for-profit.

Number of Respondents: 40.

Frequency of Responses: Recordkeeping; Reporting; On occasion.

Total Burden Hours: 1803.

Rural Business-Cooperative Service

Title: Cooperative Services Questionnaire: Market Potential for New Cooperatives Buyer Survey for New Cooperative Activity.

OMB Control Number: 0570-0009.

Summary of Collection: The Cooperative Services (CS) Program of USDA's Rural Business-Cooperative Service (RBS), provides technical advisory assistance in response to written requests from producer groups or associations, or from boards of directors of cooperatives. CS will survey potential buyers of proposed cooperative's products, at the request of producer groups, to assist in determining the feasibility of possible new cooperative marketing ventures.

Need and Use of the Information: These surveys are necessary to determine the potential for new cooperatives to sell the products produced by their members in relevant markets and to determine specifications the producers must meet regarding quantity, quality, size, packing, etc., to successfully market these products. The date collected are necessary elements in determining the feasibility of a new cooperative venture. Date are used to develop a total business plan for new cooperative activities and to evaluate the potential for their success. There is a continuing need for these surveys by RBS staff who prepare site specific feasibility studies for client groups.

Description of Respondents: Business or other for-profit.

Number of Respondents: 90.

Frequency of Responses: Reporting: On occasion.

Total Burden Hours: 45.

Rural Housing Service

Title: 7 CFR 1965-B Security Servicing for Multiple Family Housing Loans.

OMB Control Number: 0575-0100.

Summary of Collection: The Rural Housing Service Loan and Grant Programs under sections 514, 515, 516, and 521 of Title V of the Housing Act of 1949, as amended, provide loans and grants to eligible recipients for the development and operation or rural rental housing projects. These programs are intended to meet the housing needs of very low-, low- and moderate-income rural persons or families including senior citizens, the handicapped or disabled, and domestic farm laborers.

The information will be prepared and submitted to the Agency by the borrower or the borrower's representative. Agency forms and guides will be provided by the Agency to assist the borrower or the borrower's designee in the preparation of information and to streamline the collection and review process.

Need and Use of the Information: In order to assist its borrowers to operate and maintain these properties to meet program objectives, improve the Agency's ability to ensure the continued viability of the program, information needs to be collected to process borrower initiated requests. Borrower or grantee organizations are required to prepare periodic financial reports to enable the Agency to fulfill its statutory mandate for supervision or borrower operations. Information is also required for eligibility determinations to allow continued participation in the program, as necessary, to achieve the objectives of the loan and to protect the interest of the Government, the tenants, and the community. Information will be collected using several agency forms and non-forms.

Description of Respondents: Individuals or households; business or other for-profit; not-for-profit institutions; farms; State, local or Tribal Government.

Number of Respondents: 945.

Frequency of Responses: Reporting: On occasion.

Total Burden Hours: 1587.

Animal and Plant Health Inspection Service

Title: Permit for Movement of Restricted Animals.

OMB Control Number: 0579-0051.

Summary of Collection: Title 21, U.S.C. authorizes sections 111, 114, 114a, 114-1, 115, 120, 121, 125, 126, 134a, 134c, 134f, and 134g of the 21 U.S.C. These authorities permit the Secretary to prevent, control and eliminate domestic animal diseases, as well as to take actions to prevent and to manage exotic animal diseases.

Disease prevention is the most effective method of maintaining a healthy animal population and for enhancing the United States' ability to compete in the world market of animals and animal product trade. When farm animals become sick or have been exposed to a disease, it is important that they be removed promptly from their farm. If an animal must be transported across state lines, the owner will complete a “Permit for Movement of Restricted Animals,” VA Form 1-27.

Need and Use of the Information: The Animal and Plant Health Inspection Service (APHIS) will collect the owner's name, address, the animals' point of origin and destination, the number of animals being moved, the purpose of the movement, and various pieces of animal identification data so that each animal subject to movement can be identified. Meat inspector to report the slaughter of the animals to veterinary services also uses VS Form 1-27. Without the information, APHIS would be unable to effectively monitor and control the movement of sick animals, a situation that could seriously compromise the health of the U.S. livestock population.

Description of Respondents: Farms; Federal Government; State, Local or Tribal Government.

Number of Respondents: 3,847.

Frequency of Responses: Reporting: On occasion.

Total Burden Hours: 740.

Animal and Plant Health Inspection Service

Title: Specimen Submission.

OMB Control Number: 0579-0090.

Summary of Collection: Under the authority of Title 21, U.S.C., the Secretary of Agriculture is permitted to prevent, control and eliminate domestic diseases such as tuberculosis, as well as to take actions to prevent and to manage exotic diseases such as hog cholera, African swine fever, and other foreign diseases. The National Veterinary Services Laboratories cannot accomplish diseases prevention without the existence of an effective disease surveillance program, which includes disease testing. Information is collected on each animal specimen being submitted for analysis by the Animal and Plan Health Inspection Service (APHIS) using Form VS 10-4.

Need and Use of the Information: Using APHIS Form VS 10-4, State or Federal veterinarians, accredited veterinarians, or other State and Federal representatives will document the collection and submission of specimens for laboratory analysis. The form identifies the individual animal from which the specimen is taken as well as the animal's herd or flock, the type of specimen submitted, and the purpose of submitting the specimen. Without the information contained on this form, personnel at the National Veterinary Services Laboratories would have no way of identifying or processing the specimens being sent to them for analysis.

Description of Respondents: State, local or Tribal Government; Federal Government.

Number of Respondents: 12,000.

Frequency of Responses: Reporting: On occasion.

Total Burden Hours: 15,149.

Nancy B. Sternberg,
Departmental Clearance Officer.

[FR Doc. 00-19960 Filed 8-7-00; 8:45 am]

BILLING CODE 3410-01-M